DEPARTMENT OF AGRICULTURE

Forest Service

Virginia Resource Advisory Committee

AGENCY: Forest Service, Agriculture (USDA).

ACTION: Notice of meeting.

SUMMARY: The Virginia Resource Advisory Committee (RAC) will hold a virtual meeting by phone and/or video conference. The committee is authorized under the Secure Rural Schools and Community Self-Determination Act (the Act) and operates in compliance with the Federal Advisory Committee Act. The purpose of the committee is to improve collaborative relationships and to provide advice and recommendations to the Forest Service concerning projects and funding consistent with Title II of the Act. Additional RAC information, including the meeting agenda and the meeting summary/minutes, can be found at the following website: www.fs.fed.us/r8/gwj.

DATES: The meeting will be held on September 22, 2021 from 2:00 p.m.-5:00 p.m., Eastern Daylight Time.

All RAC meetings are subject to cancellation. For the status of the meeting prior to attendance, please contact the person listed under For Further Information Contact.

ADDRESSES: The meeting will be held virtually via Microsoft Teams. Participants may join through the following link: https://msteams.link/J9GS. Participants may also join via phone by dialing (202) 650-0123, Participant Code: 162316632#.

Written comments may be submitted as described under Supplementary Information. All comments, including names and addresses when provided, are placed in the record and are available for public inspection and copying. The public may inspect comments received at the George Washington and Jefferson National Forests Supervisor's Office.

FOR FURTHER INFORMATION CONTACT: Stephanie Chapman, RAC Coordinator by phone at (540) 984-4101 or via email at stephanie.l.chapman@usda.gov. Individuals who use telecommunication devices for the hearing-impaired (TDD) may call the Federal Relay Service (FRS) at 1-800-877-8339, 24 hours a day, every day of the year, including holidays.

SUPPLEMENTARY INFORMATION: The purpose of the meeting is to:

1. Orient new RAC members; and

2. Vote and nominate on a RAC Chairperson.

The meeting is open to the public. The agenda will include time for people to make oral statements of three minutes or less. Individuals wishing to make an oral statement should request in writing by September 15, 2021 to be scheduled on the agenda. Anyone who would like to bring related matters to the attention of the committee may file written statements with the committee staff before or after the meeting. Written comments and requests for time for oral comments must be sent to Stephanie Chapman, RAC Coordinator, George Washington and Jefferson NF Supervisor's Office, 5162 Valleypointe Parkway, Roanoke, Virginia 24019; or by email to stephanie.l.chapman@usda.gov.

Meeting Accommodations: If you are a person requiring reasonable accommodation, please make requests in advance for sign language interpreting, assistive listening devices or other reasonable accommodation for access to the proceedings by contacting the person listed in the section titled For Further Information Contact. All reasonable accommodation requests are managed on a case-by-case basis.

Cikena Reid,
USDA Committee Management Officer.

[FR Doc. 2021-18865 Filed 8-31-21; 8:45 am]

BILLING CODE 3411-15-P